DEPARTMENT OF DEFENSE

Office of the Secretary

Meeting of the Defense Department Advisory Committee on Women in the Services (DACOWITS)

AGENCY: Department of Defense.

ACTION: Notice.

SUMMARY: On February 14, 2011 (76 FR 8351), the Department of Defense published a notice of a meeting of the Defense Department Advisory Committee on Women in the Services (DACOWITS). The following information contains updates to the agenda.

Pursuant to Section 10(a), Public Law 92-463, as amended, notice is hereby given of a forthcoming meeting of the DACOWITS. The purpose of the meeting is for the Committee to approve and finalize the 2010 report. The Committee will also review and finalize the protocol questions for the 2011 report and discuss installation visits. The Committee will receive a briefing and have a discussion on sexual assault prevention. Finally, the Committee will recognize departing members. The meeting is open to the public, subject to the availability of space.

Interested persons may submit a written statement for consideration by the Defense Department Advisory Committee on Women in the Services. Individuals submitting a written statement must submit their statement to the Point of Contact listed below at the address detailed below NLT 5 p.m., Wednesday, March 2, 2011. If a written statement is not received by Wednesday, March 2, 2011, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement must be submitted as above. After reviewing the written comments, the Chairperson and the Designated Federal Officer will determine who of the requesting persons will be able to make an oral presentation of their issue during an open portion of this meeting or at a future meeting. Determination of who will be making an oral presentation will depend on time available and if the topics are relevant to the Committee's activities. Two minutes will be allotted to persons desiring to make an oral presentation. Oral presentations by members of the public will be permitted only on Friday March 4, 2011 from 1:45 p.m. to 2:15 p.m. before the full Committee. Number of oral presentations to be made will depend on the number of requests received from members of the public.

Dates & Times: March 4, 2011, 8 a.m.-2:30 p.m.

Location: Residence Inn Marriott, 550 Army Navy Dr., Arlington, VA 22202.

FOR FURTHER INFORMATION CONTACT: MSgt Robert Bowling, USAF, or DACOWITS, 4000 Defense Pentagon, Room 2C548A, Washington, DC 20301-4000. Robert.bowling@osd.mil Telephone (703) 697-2122. Fax (703) 614-6233.

Meeting agenda:

Friday, March 4, 2011, 8 a.m.-2:30 p.m.

—Welcome, introductions, and announcements

—Finalize the 2010 report

—Receive briefing and open discussion on sexual assault prevention

—Finalize 2011 protocol questions and installation/site visits

—Public Forum

Dated: February 23, 2011.
Morgan F. Park,
Alternate OSD Federal Register Liaison Officer, Department of Defense.

[FR Doc. 2011-4432 Filed 2-28-11; 8:45 am]

BILLING CODE 5001-06-P